DEPARTMENT OF HEALTH AND HUMAN SERVICES

National Institutes of Health

Center for Scientific Review; Amended Notice of Meeting

Notice is hereby given of a change in the meeting of the Cellular and Molecular Immunology—B Study Section, October 17, 2013, 08:30 a.m. to October 18, 2013, 05:00 p.m., Avenue Hotel Chicago, 160 E. Huron Street, Chicago, IL 60611 which was published in the Federal Register on September 23, 2013, 78 FR 58324.

The meeting will be held at the Residence Inn Bethesda, 7335 Wisconsin Avenue, Bethesda, MD 20814. The meeting will start on December 5, 2013 at 08:30 a.m. and end on December 6, 2013 at 05:00 p.m. The meeting is closed to the public.

Dated: October 24, 2013.
Carolyn A. Baum,
Program Analyst, Office of Federal Advisory Committee Policy.

[FR Doc. 2013-25513 Filed 10-28-13; 8:45 am]

BILLING CODE 4140-01-P